DEPARTMENT OF THE INTERIOR

Bureau of Reclamation

Colusa Basin Drainage District's Integrated Resources Management Program for Flood Control in the Colusa Basin in Glenn, Colusa, and Yolo Counties, CA

AGENCY: Bureau of Reclamation, Interior.

ACTION: Notice of Availability of the Final Programmatic Environmental Impact Statement/Final Programmatic Environmental Impact Report (Final PEIS/PEIR); correction.

SUMMARY: This notice corrects the Notice of Availability (NOA) for the Final PEIS/PEIR for the Integrated Resources Management Program for Flood Control in the Colusa Basin (Program). The NOA was published in the Federal Register on July 19, 2001 (66 FR 37702). A paragraph that should have been included in the NOA was mistakenly omitted.

FOR FURTHER INFORMATION CONTACT: Ms. Gaye Lopez, Colusa Basin Drainage District, at (530) 795-3038, or Mr. Russ Smith, Reclamation, at (530) 275-1554.

Correction:

Following is the omitted paragraph that should have been inserted as the third full paragraph of Supplementary Information in the NOA: “The District proposes to implement its program by engaging in a stakeholder-based process to develop both structural and nonstructural projects that reduce flooding and restore the environment in three watersheds: the North and South Forks of Willow Creek and Wilson Creek. All of these watersheds are located in Glenn County and were selected because of the ability of projects located on these ephemeral streams to address the recurrent flooding problem that faces the city of Willows and, at the same time, to lessen flooding in other portions of the Colusa Basin. Projects will only be implemented after a project-level feasibility study and environmental documentation have been completed.”

Dated: August 14, 2001.
Frank Michny,
Regional Environmental Officer.

[FR Doc. 01-21094 Filed 8-21-01; 8:45 am]

BILLING CODE 4310-MN-P